DEPARTMENT OF DEFENSE

Office of the Secretary

[DoD-2006-OS-0046]

Privacy Act of 1974; System of Records

AGENCY: Office of the Secretary, DoD.

ACTION: Notice to amend systems of records.

SUMMARY: The Office of the Secretary of Defense is amending a system of records notice in its existing inventory of record systems subject to the Privacy Act of 1974, (5 U.S.C. 552a), as amended.

DATES: This proposed action will be effective without further notice on April 28, 2006 unless comments are received which results in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 23, 2006.
L.M. Bynum,
OSD Federal Register Liaison Officer, Department of Defense.

DHA 05

System name:

Military Deployment Issues Files (December 8, 2000, 65 FR 76999).

Changes:

Add the following to the end of the entry: “or TRICARE Management Activity Privacy Office, Skyline 5, Suite 810, 5111 Leesburg Pike, Falls Church, VA 22041-3201.”

Record access procedures:

Add the following to the end of the entry: “or TRICARE Management Activity Privacy Office, Skyline 5, Suite 810, 5111 Leesburg Pike, Falls Church, VA 22041-3201.”

DHA 05

System name:

Military Deployment Issues Files.

System location:

Office of the Special Assistant to the Secretary of Defense for Gulf War Illnesses, Medical Readiness, and Military Deployments, 5113 Leesburg Pike, Suite 901, Falls Church, VA 22041-3226; DoD Deployment Health Clinical Center (including the Comprehensive Clinical Evaluation and Special Care Programs), Walter Reed Army medical center, Washington, DC 20307-0002; DoD Deployment Health Research Center, Naval Health Research Center, 271 Catalina Boulevard, Barracks Building 322, San Diego, CA 92152-5302; DoD Deployment Health Medical Surveillance Center, Director of Epidemiology and Disease Surveillance, U.S. Army Center for Health Promotion and Preventive Medicine, Aberdeen Proving Ground, MD 21010-5422; and U.S. Armed Services Center for Unit Records Research, 7798 Cissna Road, Suite 101, Springfield, VA 22150-3197.

Categories of Individuals Covered by the System:

Individuals who participated in military deployments or related operations, exercises, or tests, or served in Operation Desert Storm and/or Operation Desert Shield, the Kuwait Theater of Operations who feel they may have been exposed to biological, chemical, radiological, disease, or environmental agents.

Categories of Records in the System:

Records consist of individual's name, Social Security Number or service number, last known or current address, occupational information, date and extent of involvement in military deployments or related operations, exercises, or tests, perceived issues, exposure information, medical treatment information, medical history of subject, and other documentation of reports of possible exposure to biological, chemical radiological, disease, or environmental agents. The system contains information from unit and historical records, medical and hospital records, and information provided to the DoD by individuals with first-hand knowledge of reports of possible biological, chemical, radiological, disease, or environmental incidents. Information from health care providers who have evaluated patients with illnesses possibly related to military deployments is also included. Records include those documents, files, and other media that could relate to possible deployment health issues or illnesses. Records of diagnostic and treatment methods pursued on subjects following reports of possible incidental exposure are also included in this system.

Authority for Maintenance of the System:

10 U.S.C. 131, Office of the Secretary of Defense; 10 U.S.C. 136, Under Secretary of Defense for Personnel and Readiness; and E.O. 9397 (SSN).

Purpose(s):

Records are collected and assembled to permit investigative examination and analysis of reports of possible exposure to biological, chemical, radiological, disease, or environmental agents incident to service in military deployments or related operations, exercises, or tests, or service in Gulf War deployments, to conduct scientific or related studies or medical follow-up programs, and to assist in the resolution of deployment related issues.

Routine Uses of Records Maintained in the System; Including Categories of Users and Purposes of Such Uses:

In addition to those disclosures generally permitted under 5 U.S.C. 552a(b) of the Privacy Act, these records or information contained therein may specifically be disclosed outside the DoD as a routine use pursuant to 5 U.S.C. 552a(b)(3) as follows:

To the Department of Veterans Affairs and the Social Security Administration for appropriate consideration of individual claims for benefits for which that agency is responsible.

To the Department of Veterans Affairs and Health and Human Services, and the Centers for Disease Control and Prevention to permit investigative, scientific, medical and other analyses regarding deployment health issues and incidents and possible causes, symptoms, diagnoses, treatment, and other characteristics pertinent to service member's and veteran's health.

To the Military and Veterans Health Coordinating Board (MVHCB), which will coordinate with several agencies the clinical, research, and health risk communications issues relating to service member's (and veteran's) pre and post deployment health.

The DoD ‘Blanket Routine Uses’ set forth at the beginning of OSD's compilation of systems of records notices apply to this system.

Policies and practices for storing, retrieving, accessing, retaining, and disposing of records in the system:

Storage:

Paper records are maintained in file folders; electronic records are stored on magnetic media; microfilm/microfiche are maintained in appropriate storage containers.

Retrievability:

Records are retrieved by case number, name, Social Security Number or service number and key words.

Safeguards:

Access to areas where records maintained is limited to authorized personnel. Areas are protected by access control devices during working hours and intrusion alarm devices during non-duty hours.

Retention and disposal:

Disposition pending (until NARA approves retention and disposition schedule, treat records as permanent.)

System manager(s) and address:

Special Assistant to the Secretary of Defense for Gulf War Illnesses, Medical Readiness, and Military Deployments, 5113 Leesburg Pike, Suite 901, Falls Church, VA 22041-3226.

Notification procedure:

Individuals seeking to determine whether information about themselves is contained in this system should address written inquiries to the Special Assistant to the Secretary of Defense for Gulf War Illnesses, Medical Readiness, and Military Deployments, 5113 Leesburg Pike, Suite 901, Falls Church, VA 22041-3226; or TRICARE Management Activity Privacy Office, Skyline 5, Suite 80, 5111 Leesburg Pike, Falls Church, VA 22041-3201.

Record access procedures:

Individuals seeking access to records about themselves contained in this system of records should address written inquiries to the Special Assistant to the Secretary of Defense for Gulf War Illnesses, Medical Readiness, and Military Deployments, 5113 Leesburg Pike, Suite 901, Falls Church, VA 22041-3226; or TRICARE Management Activity Privacy Office, Skyline 5, Suite 810, 5111 Leesburg Pike, Falls Church, VA 22041-3201.

Contesting record procedures:

The OSD rules for accessing records, for contesting contents and appealing initial agency determinations are published in OSD Administrative instruction 81; 32 CFR part 311; or may be obtained from the system manager.

Record source categories:

Information is from the individual's themselves, witnesses to a possible event, health care providers who have evaluated patients with illnesses possibly related to service in military deployments or related operations, exercises, or tests as well as extracts from official DoD records to include: Personnel files and lists, unit histories, medical records, and related sources.

Exemptions claimed for the system:

None.

[FR Doc. 06-3000 Filed 3-28-06; 8:45 am]

BILLING CODE 5001-06-M